NATIONAL ARCHIVES AND RECORDS ADMINISTRATION

Information Security Oversight Office

Public Interest Declassification Board (PIDB); Meeting

AGENCY: National Archives and Records Administration.

ACTION: Notice of meeting.

SUMMARY: Pursuant to Section 1102 of the Intelligence Reform and Terrorism Prevention Act of 2004, which extended and modified the Public Interest Declassification Board (PIDB) as established by the Public Interest Declassification Act of 2000 (Pub. L. 106-567, title VII, December 27, 2000, 114 Stat. 2856), announcement is made for the following committee meeting:

DATES: July 8, 2009.

Time: 9:30 a.m. to 12:30 p.m.

ADDRESSES: National Archives and Records Administration, 700 Pennsylvania Avenue, NW., Room 105, Washington, DC 20408.

FOR FURTHER INFORMATION CONTACT: Julie A. Agurkis, PIDB Staff, Information Security Oversight Office, National Archives Building, 700 Pennsylvania Avenue, NW., Washington, DC 20408, telephone number (202) 357-5308.

SUPPLEMENTARY INFORMATION: To solicit public input concerning recommendations and proposed revisions to the classification and declassification policies found in Executive Order 12958, as amended, “Classified National Security Information” (the Order). This action is being taken at the request of the National Security Advisor and in support of the ongoing review of the Order directed by the President on May 27, 2009.

This meeting will be open to the public. To ensure that the Board may hear from all interested parties, individuals interested in addressing the Board may be limited to 10 minutes. Due to space limitations and access procedures, the name and telephone number of individuals planning to attend must be submitted to the Information Security Oversight Office (ISOO) via e-mail, PIDB@nara.gov, no later than July 2, 2009. ISOO will provide additional instructions for gaining access to the location of the meeting.

Dated: June 11, 2009.
Mary Ann Hadyka,
Committee Management Officer.

[FR Doc. E9-14691 Filed 6-22-09; 8:45 am]

BILLING CODE 7515-01-P